DEPARTMENT OF HEALTH AND HUMAN SERVICES

[Document Identifier: OS-0990-New; 30-Day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Written comments and recommendations for the proposed information collections must be received within 30 days of this notice directly to the OS OMB Desk Officer all comments must be faxed to OMB at 202-395-6974.

Proposed Project: Evaluation of the ACF Marriage and Family Strengthening Grants for Incarcerated and Reentering Fathers and their Partners—OMB No. 0990-NEW-Assistant Secretary for Planning and Evaluation (ASPE).

Abstract: The Office of Family Assistance within the Administration for Children and Families (ACF) is conducting a demonstration program called Marriage and Family Strengthening Grants for Incarcerated and Re-entering Fathers and their Partners (MFS-IP). These demonstration programs are funded to support activities in the areas of marriage strengthening and responsible fatherhood among incarcerated and recently released fathers, their partners, and children. The Office of the Assistant Secretary for Planning and Evaluation (ASPE) is conducting an evaluation of these demonstration projects. The objective of the evaluation is to help to determine what types of marriage and family strengthening programs work best, what does not work, and what effects these programs may have on fostering healthy marriages, families and children for those involved in the criminal justice system. Information from the evaluation will assist federal, state, and community policymakers and patrons in deciding whether to replicate or redesign identified marriage and family strengthening program models.

The MFS-IP evaluation will assess the effects of marriage and family strengthening activities with incarcerated populations by comparing relationship quality and stability, positive family interactions, family financial well-being, recidivism, and community connectedness between intervention and control groups. Primary data for the evaluation will come from three waves of in-person data collection, including a baseline survey and follow-up surveys at approximately 6 and 12 months post-baseline. Data collection is expected to last 4 years, from the time the first participant is enrolled until the last 12-month follow-up survey is administered.

Estimated Annualized Burden Table
Instrument | Number of respondents (annualized) | Number of responses per respondent | Average burden hours per response | Total annualized burden hours
Baseline survey for incarcerated men | 444 | 1 | 1.5 | 666
Baseline survey for partners of incarcerated men | 444 | 1 | 1.5 | 666
Follow-up survey for incarcerated or formerly incarcerated men | 444 | 2 | 1.5 | 1332
Follow-up survey for partners of incarcerated or formerly incarcerated men | 444 | 2 | 1.5 | 1332
Total |  |  |  | 3996

Debbie Kramer,
Office of the Secretary, Paperwork Reduction Act Reports Clearance Officer.

1

[FR Doc. E8-7252 Filed 4-7-08; 8:45 am]

BILLING CODE 4150-05-P